FEDERAL COMMUNICATIONS COMMISSION

47 CFR Part 64

[CG Docket No. 10-210; FCC 15-57]

Relay Services for Deaf-Blind Individuals

AGENCY: Federal Communications Commission.

ACTION: Final rule.

SUMMARY: In this document, the Commission extends the National Deaf-Blind Equipment Distribution Program (NDBEDP) as a pilot program for one additional year. The NDBEDP provides up to $10 million annually to support programs that distribute communications equipment to low-income individuals who are deaf-blind. Extending the pilot program enables the NDBEDP to continue providing communications equipment to low-income individuals who are deaf-blind without interruption while the Commission considers whether to adopt rules to govern a permanent NDBEDP.

DATES: Effective June 10, 2015.

FOR FURTHER INFORMATION CONTACT: Rosaline Crawford, Consumer and Governmental Affairs Bureau, Disability Rights Office, at 202-418-2075 or email Rosaline.Crawford@fcc.gov.

SUPPLEMENTARY INFORMATION: This is a summary of the Commission's document FCC 15-57, Implementation of the Twenty-First Century Communications and Video Accessibility Act of 2010, Section 105, Relay Services for Deaf-Blind Individuals, Order (Order), adopted on May 21, 2015 and released on May 27, 2015, in CG Docket No. 10-210. The full text of document FCC 15-57 will be available for public inspection and copying via the Commission's Electronic Comment Filing System (ECFS), through the Commission's Web site at http://fjallfoss.fcc.gov/ecfs2/, and during regular business hours at the FCC Reference Information Center, Portals II, 445 12th Street SW., Room CY-A257, Washington, DC 20554. Document FCC 15-57 can also be downloaded in Word or Portable Document Format (PDF) at http://www.fcc.gov/ndbedp. To request materials in accessible formats for people with disabilities (Braille, large print, electronic files, audio format), send an email to fcc504@fcc.gov or call the Consumer and Governmental Affairs Bureau at 202-418-0530 (voice), 202-418-0432 (TTY).

Synopsis

I. Background

1. Section 105 of the Twenty-First Century Communications and Video Accessibility Act of 2010 (CVAA) added section 719 to the Communications Act of 1934, as amended, which directed the Commission to establish rules to provide up to $10 million annually from the Interstate Telecommunications Relay Service Fund (TRS Fund) to support programs that distribute communications equipment to low-income individuals who are deaf-blind. Public Law 111-260, 124 Stat. 2751 (2010); Public Law 111-265, 124 Stat. 2795 (2010); 47 U.S.C. 620. In 2011, the Commission established the NDBEDP as a two-year pilot program, with an option to extend it for an additional year. Implementation of the Twenty-First Century Communications and Video Accessibility Act of 2010, Section 105, Relay Services for Deaf-Blind Individuals, CG Docket No. 10-210, Report and Order, published at 76 FR 26641, May 9, 2011 (NDBEDP Pilot Program Order); 47 CFR 64.610 (NDBEDP pilot program rules). The Consumer and Governmental Affairs Bureau (CGB or Bureau) launched the pilot program on July 1, 2012. To implement the program, the Bureau certified 53 entities to participate in the NDBEDP—one entity to distribute communications equipment in each state, plus the District of Columbia, Puerto Rico, and the U.S. Virgin Islands, hereinafter referred to as “state programs” or “certified programs”—and selected a national outreach coordinator to support the outreach and distribution efforts of these state programs. On February 7, 2014, the Bureau extended the pilot program for a third year, until June 30, 2015. Many individuals who have received equipment and training through the NDBEDP have reported that this program has vastly improved their daily lives, significantly enhancing their ability to live independently and expanding their educational and employment opportunities.

2. On August 1, 2014, the Bureau released a Public Notice inviting comment on which rules governing the NDBEDP pilot program should be retained and which should be modified to make the permanent NDBEDP more effective and more efficient. Consumer and Governmental Affairs Bureau Seeks Comment on the National Deaf-Blind Equipment Distribution Program, CG Docket No. 10-210, Public Notice, 29 FCC Rcd 9451 (CGB 2014). In response to the Public Notice, the Commission received over 40 comments from disability organizations, certified programs, and individual consumers, which will help to inform the preparation of a Notice of Proposed Rulemaking to establish a permanent NDBEDP when the pilot program ends.

II. Extension of Pilot Program

3. In the Order, the Commission extends the existing NDBEDP pilot program rules for one additional year, until June 30, 2016. As noted in the Order, the Commission has sought comment on whether certain changes should be made when the NDBEDP transitions from a pilot to a permanent program. Completion of this rulemaking and implementation of any new rules may take longer than June 30, 2015, when the rules governing the NDBEDP pilot program will expire. Extending the pilot program will provide time to receive and thoroughly consider public input on proposed rules for a permanent program, as well as to implement final rules for the permanent NDBEDP without interrupting the distribution of communications equipment and provision of related services to low-income individuals who are deaf-blind, which the Commission finds serves the public interest. The extension will also provide greater programmatic certainty to entities that are currently certified to participate in the NDBEDP and enable the Commission to provide a smooth transition from the NDBEDP pilot program to a permanent program. The Commission commits to continue the pilot NDBEDP as long as necessary to ensure a seamless transition between the pilot and permanent programs to ensure the uninterrupted distribution of equipment to this target population. When the Commission adopts final rules for the permanent program, it will consider the extent to which the pilot program needs to be extended further. To provide reasonable notice to the certified programs operating under the pilot program rules prior to June 30, 2015, this extension of the pilot program rules shall be effective June 10, 2015.

Final Paperwork Reduction Act of 1995 Analysis

The Commission currently has an Office and Management and Budget (OMB) collection 3060-1146 pending OMB's review and approval of an extension submitted to OMB on April 22, 2015. This collection contains information collection requirements for the NDBEDP pilot program, which are subject to the Paperwork Reduction Act (PRA) of 1995. Public Law 104-13. However, document FCC 15-57 does not modify the existing information collection requirements contained in OMB collection 3060-1146, and it does not contain new or modified information collection requirements subject to the PRA. In addition, therefore, it does not contain any new or modified information collection burden for small business concerns with fewer than 25 employees, pursuant to the Small Business Paperwork Relief Act of 2002. Public Law 107-198. See also 44 U.S.C. 3506(c)(4).

Congressional Review Act

The Commission will not send a copy of FCC 15-57 pursuant to the Congressional Review Act, because the Commission adopted no rules therein. See 5 U.S.C 801(a)(1)(A). Rather than adopting rules, the Commission exercised its statutory authority to extend the NDBEDP as a pilot program by Order for one additional year.

Ordering Clause

Pursuant to the authority contained in sections 1, 4(i), 4(j), and 719 of the Communications Act of 1934, as amended, 47 U.S.C. 151, 154(i), 154(j), and 620, that document FCC 15-57 is adopted.

Federal Communications Commission.
Marlene H. Dortch,
Secretary.

[FR Doc. 2015-13717 Filed 6-9-15; 8:45 am]

BILLING CODE 6712-01-P